CONSUMER PRODUCT SAFETY COMMISSION

Sunshine Act Meeting Notice

Time and Date: Wednesday, April 20, 2016; 9:30 a.m.-12 p.m.

Place: Hearing Room 420, Bethesda Towers, 4330 East West Highway, Bethesda, Maryland.

Status: Closed to the Public.

Matter to be Considered: Compliance Briefing—The Commission staff will brief the Commission on the status of compliance matters.

Contact Person for More Information: Todd A. Stevenson, Office of the Secretary, U.S. Consumer Product Safety Commission, 4330 East West Highway, Bethesda, MD 20814, (301) 504-7923.

Dated: April 12, 2016.
Todd A Stevenson,
Secretary.

[FR Doc. 2016-08883 Filed 4-13-16; 4:15 pm]

BILLING CODE 6355-01-P